DEPARTMENT OF ENERGY

Federal Energy Regulatory Commission

[Docket No. RP04-211-000]

Northern Border Pipeline Company; Notice of Tariff Filing

March 11, 2004.

Take notice that on March 8, 2004, Northern Border Pipeline Company (Northern Border) tendered for filing to be part of Northern Border's FERC Gas Tariff, First Revised Volume No. 1, the following tariff sheets to become effective April 7, 2004:

Second Revised Sheet No. 302

Second Revised Sheet No. 303

Original Sheet No. 303.01

Fourth Revised Sheet No. 406

Fourth Revised Sheet No. 429B

Fourth Revised Sheet No. 435

Northern Border states that the purpose of this filing is to revise the necessary tariff sheets to amend Northern Border's list of acceptable discount transactions to allow for the use of basis differentials in pricing of discounted rate transactions.

Northern Border states that copies of its filing have been sent to all of Northern Border's contracted shippers and interested State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-630 Filed 3-18-04; 8:45 am]

BILLING CODE 6717-01-P